NATIONAL CREDIT UNION ADMINISTRATION

Agency Information Collection Activities: Submission to OMB for Revision to a Currently Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public. NCUA is proposing to streamline the Community Development Revolving Loan Fund (CDRLF)—Loan Program collection to include the CDRLF Technical Assistance (Grant) Program. Both the CDRLF—Loan Program and the CDRLF—Technical Assistance (Grant) Program are administered under the NCUA Rules and Regulations Section 705. 12 CFR Part 705. This request seeks to merge elements of both the loan and grant programs into the same collection and application in order to increase program accessibility and internal and external efficiencies. The newly combined application will soon be available on-line and low-income designated credit unions will be able to apply for either a CDRLF loan or grant by accessing the same on-line application system.

DATES: Comments will be accepted until June 3, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

NCUA is amending the currently approved collection for 3133-0138. The CDRLF Loan and Technical Assistance (Grant) Programs are both administered under the NCUA Rules and Regulations Section 705. 12 CFR Part 705. Previously, two specific forms were used, one application for loans and one application for grants. NCUA is seeking to streamline the CDRLF Program application to include both the loan and the grant section into one interactive, on-line application in order to recognize internal and external efficiencies. With the merger of the grant documents to this collection, the burden will increase by 1,276 hours to include the additional calculations from low-income designated credit unions seeking grants. This increase is due strictly to the merger of grant application documents. The burden hours and cost related to the loan documents have not changed from the previous submission.

The NCUA requests that you send your comments on this collection to the locations listed in the addresses section. Your comments should address: (a) The necessity of the information collection for the proper performance of the CDRLF Loan and Technical Assistance (Grant) Programs, including whether the information will have practical utility; (b) the accuracy of our estimate of the burden (hours and cost) of the collection of information, including the validity of the methodology and assumptions used; (c) ways we could enhance the quality, utility, and clarity of the information to be collected; and (d) ways we could minimize the burden of the collection of information on the respondents such as through the use of automated collection techniques or other forms of information technology. It is NCUA's policy to make all comments available to the public for review. Comments submitted in response to this notice will be summarized and/or included in the request for OMB approval. All comments will become a matter of public record.

II. Data

Proposal for the following collection of information:

OMB Number: 3133-0138.

Type of Review: Revision, with change, of a currently approved collection.

Title: Community Development Revolving Loan Fund (CDRLF) Program.

Description: NCUA requests this information from participants in the Community Development Revolving Loan Fund (CDRLF) Loan and Technical Assistance (Grant) Programs. The information will allow NCUA to assess a credit union's capacity to repay the funds and ensure that the funds were used as intended to benefit the institution and community it serves.

Estimated No. of Respondents/Recordkeepers: 343.

Estimated Burden Hours Per Response: 4, 8, or 16 per response, dependent on application type.

Frequency of Response: Reporting, on occasion and semi-annually.

Estimated Total Annual Burden Hours: 2,259 hours.

Estimated Total Annual Cost: 0.

By the National Credit Union Administration Board on April 30, 2013.
Mary Rupp,
Secretary of the Board.

[FR Doc. 2013-10551 Filed 5-2-13; 8:45 am]

BILLING CODE 7535-01-P